DEPARTMENT OF DEFENSE

Office of the Secretary

[Docket No. DoD-2009-OS-0190]

Submission for OMB Review; Comment Request

ACTION: Notice.

The Department of Defense has submitted to OMB for clearance, the following proposal for collection of information under the provisions of the Paperwork Reduction Act (44 U.S.C. Chapter 35).

DATES: Consideration will be given to all comments received by June 1, 2010.

Title and OMB Number: Application for a Review by the Physical Disability Board of Review of the Rating for a Medical Separation from the Armed Forces of the United States; DD Form 294; OMB Number 0704-0453.

Type of Request: Extension.

Number of Respondents: 1,800.

Responses per Respondent: 1.

Annual Responses: 1,800.

Average Burden per Response: 45 minutes.

Annual Burden Hours: 1,350 hours.

Needs and Uses: The information collection requirement is necessary to have former members who were separated from the armed forces from between September 11, 2001 and December 31, 2009 due to unfitness for duty due to a medical condition with a disability rating of 20 percent disabled or less; and were found to be not eligible for retirement request a review of that determinations in accordance with the provisions of 10 United States Code Section 1554a.

Affected Public: Individuals or households.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: April 27, 2010.
Mitchell S. Bryman,
Alternate OSD Federal Register Liaison Officer, Department of Defense.

[FR Doc. 2010-10132 Filed 4-29-10; 8:45 am]

BILLING CODE 5001-06-P